DEPARTMENT OF TRANSPORTATION

Surface Transportation Board

[STB Docket No. AB-1023 (Sub-No. 1X)]

Puget Sound & Pacific Railroad Company—Abandonment Exemption—in Grays Harbor County, WA

On January 29, 2009, Puget Sound & Pacific Railroad Company (PS&P) ¹ filed with the Board a petition under 49 U.S.C. 10502 for exemption from the provisions of 49 U.S.C. 10903 to permit PS&P to abandon an 8,344-foot long rail line that begins just south of where the railroad line crosses U.S. Highway 101 in Hoquiam, and proceeds in a northerly direction for 8,344 feet to the end of the line, in Grays Harbor County, WA. PS&P explains that the line begins 3,424 feet north of the main track clearance off of the Elma Main and is part of the line known as the Horn Spur.² The line traverses U.S. Postal Service Zip Code 98550, and includes the station of Hoquiam.

¹ PS&P is a subsidiary of Rail America, Inc.

² PS&P states that there are no mileposts on the line. PS&P also states that the line was purchased from The Burlington Northern and Santa Fe Railway Company in 1997. According to PS&P, the line has been embargoed since February 2008 due to track conditions.

The line does not contain federally granted rights-of-way. Any documentation in PS&P's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by May 19, 2009.

Any offer of financial assistance (OFA) under 49 CFR 1152.27(b)(2) will be due no later than 10 days after service of a decision granting the petition for exemption. Each OFA must be accompanied by a $1,500 filing fee. See 49 CFR 1002.2(f)(25).³

³ Effective July 18, 2008, the filing fee for an OFA increased to $1,500. See Regulations Governing Fees for Services Performed in Connection With Licensing and Related Services—2008 Update, STB Ex Parte No. 542 (Sub-No. 15) (STB served June 18, 2008).

All interested persons should be aware that, following abandonment of rail service and salvage of the line, the line may be suitable for other public use, including interim trail use. Any request for a public use condition under 49 CFR 1152.28 or for trail use/rail banking under 49 CFR 1152.29 will be due no later than March 10, 2009. Each trail use request must be accompanied by a $200 filing fee. See 49 CFR 1002.2(f)(27).

All filings in response to this notice must refer to STB Docket No. AB-1023 (Sub-No. 1X) and must be sent to: (1) Surface Transportation Board, 395 E Street, SW., Washington, DC 20423-0001; (2) Louis E. Gitomer, 600 Baltimore Avenue, Suite 301, Towson, MD 21204-4022; and (3) Scott G. Williams, Esq., Senior Vice President & General Counsel, RailAmerica, Inc., 7411 Fullerton Street, Suite 300, Jacksonville, FL 32256. Replies to the petition are due on or before March 10, 2009.

Persons seeking further information concerning abandonment procedures may contact the Board's Office of Public Assistance, Governmental Affairs, and Compliance at (202) 245-0238 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “http://www.stb.dot.gov.”

Decided: February 10, 2009.
By the Board, David M. Konschnik, Director, Office of Proceedings.
Jeffrey Herzig,
Clearance Clerk.

[FR Doc. E9-3241 Filed 2-17-09; 8:45 am]

BILLING CODE 4915-01-P